DEPARTMENT OF TRANSPORTATION

Federal Aviation Administration

14 CFR Parts 26, 121, 125, and 129

[Docket No. FAA-2005-22997; Amendment Nos. 26-3, 121-345, 125-57, and 129-47]

RIN 2120-AI23

Reduction of Fuel Tank Flammability in Transport Category Airplanes

AGENCY: Federal Aviation Administration (FAA), DOT.

ACTION: Final rule, correcting amendments.

SUMMARY: The Federal Aviation Administration (FAA) is correcting inadvertent errors that appeared in a previously-published final rule. That final rule amended FAA regulations that require operators and manufacturers of transport category airplanes to take steps that, in combination with other required actions, should greatly reduce the chances of a catastrophic fuel tank explosion. In that final rule, erroneous compliance dates were shown. This document changes those compliance dates accordingly. It also corrects other non-substantive errors that have come to our attention.

DATES: Effective July 2, 2009.

FOR FURTHER INFORMATION CONTACT: If you have technical questions about this action, contact Michael E. Dostert, FAA, Propulsion/Mechanical Systems Branch, ANM-112, Transport Airplane Directorate, Aircraft Certification Service, 1601 Lind Avenue, SW., Renton, Washington 98057-3356; telephone (425) 227-2132, facsimile (425) 227-1320; e-mail: mike.dostert@faa.gov. Direct any legal questions to Doug Anderson, ANM-7, FAA, Office of Regional Counsel, 1601 Lind Avenue, SW., Renton, WA 98057-3356; telephone (425) 227-2166; facsimile (425) 227-1007, e-mail Douglas.Anderson@faa.gov.

SUPPLEMENTARY INFORMATION:

Background

The Federal Aviation Administration (FAA) published a final rule, request for comments entitled “Reduction of Fuel Tank Flammability in Transport Category Airplanes” in the Federal Register on July 21, 2008 (73 FR 42444).

Recently, it was brought to our attention that the effective date shown in the document was inconsistent with the Congressional Review Act. This act specifies that, for major rules like this one, the effective date is no sooner than 60 days after publication or 60 days after submission to Congress, whichever occurs later. Since this rule was not received by the Government Accounting Office until October 27, 2008, the effective date of the rule per the Congressional Review Act is December 26, 2008, not September 19, 2008. Because compliance dates were calculated based on a September 19, 2008 effective date, those dates are incorrect. This document makes the appropriate amendatory changes necessary to reflect the new compliance dates. We also found some minor errors in §§ 121.1117, 125.509 and 129.117 and are correcting them in this document.

List of Subjects

14 CFR Part 26

Aircraft, Aviation safety, Continued airworthiness.

14 CFR Part 121

Air carriers, Aircraft, Aviation safety, Reporting and recordkeeping requirements, Safety, Transportation.

14 CFR Part 125

Aircraft, Aviation safety, Reporting and recordkeeping requirements.

14 CFR Part 129

Air carriers, Aircraft, Aviation safety, Reporting and recordkeeping requirements, Security measures.

The Amendment

In consideration of the foregoing, the Federal Aviation Administration amends Chapter 1 of Title 14, Code of Federal Regulations (CFR) parts 26, 121, 125, and 129, as follows:

PART 26—CONTINUED AIRWORTHINESS AND SAFETY IMPROVEMENTS FOR TRANSPORT CATEGORY AIRPLANES

1. The authority citation for part 26 continues to read as follows:

Authority: 49 U.S.C. 106(g), 40113, 44701, 44702 and 44704.

2. Revise § 26.5 to read as follows:

§ 26.5 Applicability table.

Table 1 of this section provides an overview of the applicability of this part. It provides guidance in identifying what sections apply to various types of entities. The specific applicability of each subpart and section is specified in the regulatory text.

Table 1—Applicability of Part 26 Rules
| Applicable sections: Subpart B: EAPAS/FTS | Applicable sections: Subpart D: Fuel tank flammability | Applicable sections: Subpart E: Damage tolerance data
Effective date of rule | December 10, 2007 | December 26, 2008 | January 11, 2008
Existing ¹ TC Holders | 26.11 | 26.33 | 26.43, 26.45, 26.49
Pending ¹ TC Applicants | 26.11 | 26.37 | 26.43, 26.45
Existing ¹ STC Holders | N/A | 26.35 | 26.47, 26.49
Pending ¹ STC/ATC Applicants | 26.11 | 26.35 | 26.45, 26.47, 26.49
Future ² STC/ATC Applicants | 26.11 | 26.35 | 26.45, 26.47, 26.49
Manufacturers | N/A | 26.39 | N/A
¹ As of the effective date of the identified rule.
² Application made after the effective date of the identified rule.

§ 26.33 [Amended]

3. Amend § 26.33 as follows:

A. In paragraph (b)(1), remove “September 19, 2008,” and add “December 26, 2008,” in its place.

B. In paragraph (d) introductory text, remove “September 20, 2010,” and add “December 27, 2010,” in its place.

C. In paragraph (d)(2) remove “September 19, 2008,” and add “December 26, 2008,” in its place.

D. In paragraph (e), remove “September 20, 2010,” and add “December 27, 2010,” in its place.

E. In paragraph (f), remove “September 20, 2010,” and add “December 27, 2010,” in its place.

F. In paragraph (g) introductory text, remove “September 19, 2008,” and add “December 26, 2008,” in its place.

G. In paragraph (h) introductory text, remove “September 19, 2008,” and add “December 26, 2008,” in its place.

4. Amend § 26.35 as follows:

A. In paragraph (a)(1), remove “September 19, 2008,” and add “December 26, 2008,” in its place.

B. In paragraph (a)(2), remove “September 19, 2008,” and add “December 26, 2008,” in its place, in both places.

C. In paragraph (a)(3) introductory text, remove “September 19, 2008,” and add “after December 26, 2008,” in its place.

D. In paragraph (b) introductory text, remove “Flammability Exposure Analysis—” and add “Flammability Exposure Analysis.” in its place.

E. In paragraph (b)(1)(i), remove “September 19, 2008,” and add “December 26, 2008,” in its place.

F. In paragraph (b)(1)(ii), remove “September 19, 2008,” and add “December 26, 2008,” in its place.

G. In paragraph (b)(2)(i), remove “September 19, 2008,” and add “December 26, 2008,” in its place.

H. In paragraph (c)(1), remove “March 21, 2011,” and add “June 26, 2011,” in its place.

I. In paragraph (c)(2), remove “March 21, 2011,” and add “June 26, 2011,” in its place.

J. In paragraph (d)(2), remove “September 19, 2008,” and add “December 26, 2008,” in its place.

K. In paragraph (e)(1), remove “September 19, 2012,” and add “December 26, 2012,” in its place.

L. In paragraph (e)(2), remove “September 19, 2012,” and add “December 26, 2012,” in its place.

M. Revise the table in paragraph (f)(4) to read as set forth below.

§ 26.35 Changes to type certificates affecting fuel tank flammability.

* * * * *

(f) * * *

(4) * * *

Table 2—Compliance Planning Dates
| Flammability exposure analysis plan | Impact assessment plan | Design changes and service instructions plan
STC and Field Approval Holders | March 26, 2009 | February 26, 2011 | August 26, 2011.

* * * * *

§ 26.37 [Amended]

5. Amend § 26.37 as follows:

A. In paragraph (a) introductory text, remove “September 19, 2008,” the first place it appears and add “December 26, 2008,” in its place; and remove “September 19, 2008,” the second place it appears and add “before December 26, 2008,” in its place.

B. In paragraph (b), remove “September 19, 2008,” and add “December 26, 2008,” in its place.

§ 26.39 [Amended]

6. Amend § 26.39 as follows:

A. In paragraph (a), remove “September 20, 2010,” and add “December 27, 2010,” in its place.

B. In paragraph (b) introductory text, remove “September 19, 2008,” and add “December 26, 2008,” in its place.

C. In paragraph (c), remove “September 19, 2008,” and add “December 26, 2008,” in its place.

PART 121—OPERATING REQUIREMENTS: DOMESTIC, FLAG AND SUPPLEMENTAL OPERATIONS

7. The authority citation for part 121 continues to read as follows:

Authority: 49 U.S.C. 106(g), 40113, 40119, 41706, 44101, 44701-44702, 44705, 44709-44711, 44713, 44716-44717, 44722, 44901, 44903-44904, 44012, 44105, 46301.

§ 121.1117 [Amended]

8. Amend § 121.1117 as follows:

A. In paragraph (b), remove “September 20, 2010,” and add “December 27, 2010,” in its place.

B. In paragraph (e)(1), remove “September 19, 2014,” and add “December 26, 2014,” in its place.

C. In paragraph (e)(2), remove “September 19, 2017,” and add “December 26, 2017,” in its place.

D. In paragraph (e)(3), remove “September 19, 2017,” and add “December 26, 2017,” in its place.

E. In paragraph (k)(1), remove “December 18, 2008,” and add “March 26, 2009,” in its place.

F. In paragraph (k)(2), remove “March 18, 2009,” and add “June 24, 2009,” in its place.

G. In paragraph (l), remove “September 19, 2008,” and add “December 26, 2008,” in its place.

H. In paragraph (n), remove “September 19, 2017,” and add “December 26, 2017,” in its place; and remove “September 19, 2008,” and adding “December 26, 2008,” in its place.

I. In paragraph (o)(3), remove “Armstrong Viscount” and add “VC-10” in its place.

J. Remove paragraph (o)(12) and redesignate paragraphs (o)(13) through (o)(18) as paragraphs (o)(12) through (o)(17), respectively.

K. In the newly redesignated paragraph (o)(13), remove the words “Handley Page” the first time they appear.

PART 125—CERTIFICATION AND OPERATIONS; AIRPLANES HAVING A SEATING CAPACITY OF 20 OR MORE PASSENGERS OR A MAXIMUM PAYLOAD CAPACITY OF 6,000 POUNDS OR MORE; AND RULES GOVERNING PERSONS ON BOARD SUCH AIRCRAFT

9. The authority citation for part 125 continues to read as follows:

Authority: 49 U.S.C. 106(g), 40113, 44701-44702, 44705, 44710-44711, 44713, 44716-44717, 44722.

10. Amend § 125.509 as follows:

A. In paragraph (b), remove “September 20, 2010,” and add “December 27, 2010,” in its place.

B. In paragraph (e)(1), remove “September 19, 2014,” and add “December 26, 2014,” in its place.

C. In paragraph (e)(2), remove “September 19, 2017,” and add “December 26, 2017,” in its place.

D. In paragraph (e)(3), remove “September 19, 2017,” and add “December 26, 2017,” in its place.

E. In paragraph (l), remove “September 19, 2017” and add “December 26, 2017,” in its place; and remove “September 19, 2008” and add “December 26, 2008,” in its place.

F. In paragraph (m)(3), remove “Armstrong Viscount” and add “VC-10” in its place.

G. Remove paragraph (m)(12) and redesignate paragraphs (m)(13) through (m)(18) as paragraphs (m)(12) through (m)(17).

H. In newly redesignated paragraph (m)(13), remove the words “Handley Page” the first time they appear.

I. Add Table 2 immediately after paragraph (k) to read as set forth below.

The addition reads as follows:

§ 125.509 Flammability reduction means.

* * * * *

(k) * * *

Table 2
Model—Boeing | Model—Airbus
747 Series | A318, A319, A320, A321 Series.
737 Series | A300, A310 Series.
777 Series | A330, A340 Series.
767 Series
757 Series

* * * * *

PART 129—OPERATION: FOREIGN AIR CARRIERS AND FOREIGN OPERATORS OF U.S.-REGISTERED AIRRAFT ENGAGED IN COMMON CARRIAGE

11. The authority citation for part 129 continues to read as follows:

Authority: 49 U.S.C. 1372, 40113, 40119, 44101, 44710-44702, 447-5, 44709-44711, 44713, 44716-44717, 44722, 44901-44904, 44906, 44912, 44105, Pub. L. 107-71 sec. 104.

§ 129.117 [Amended]

12. Amend § 129.117 as follows:

A. In paragraph (b), remove “September 20, 2010,” and add “December 27, 2010,” in its place.

B. In paragraph (d) introductory text, remove the words “After the dates specified in paragraphs (j), (k), and (l) of this section,” and capitalize the first letter of the word “after”.

C. In paragraph (e)(1), remove “September 19, 2014,” and add “December 26, 2014,” in its place.

D. In paragraph (e)(2), remove “September 19, 2017,” and add “December 26, 2017,” in its place.

E. In paragraph (e)(3), remove “September 19, 2017,” and add “December 26, 2017,” in its place.

F. In paragraph (k)(1), remove “December 18, 2008,” and add “March 26, 2009,” in its place.

G. In paragraph (k)(2), remove “March 18, 2009,” and add “June 24, 2009,” in its place.

H. In paragraph (l), remove “September 19, 2008,” and add “December 26, 2008,” in its place.

I. In paragraph (m), Table 3, remove the phrase “707/720 Series”.

J. In paragraph (n), remove “September 19, 2017,” and add “December 26, 2017,” in its place; and remove “September 19, 2008,” and add “December 26, 2008,” in its place.

K. In paragraph (o)(3), remove “Armstrong Viscount” and add “VC-10” in its place.

L. Remove paragraph (o)(12) and redesignate paragraphs (o)(13) through (o)(18) as paragraphs (o)(12) through (o)(17).

M. In newly redesignated paragraph (o)(13), remove the words “Handley Page” the first time they appear.

Issued in Washington, DC, on June 22, 2009.
Rebecca MacPherson,
Assistant Chief Counsel for Regulation, Office of the Chief Counsel.

[FR Doc. E9-15311 Filed 7-1-09; 8:45 am]

BILLING CODE 4910-13-P